DEPARTMENT OF COMMERCE

International Trade Administration

[A-427-825, A-580-853, A-588-863]

Wax and Wax/Resin Thermal Transfer Ribbons From France, Japan, and the Republic of Korea; Notice of Postponement of Preliminary Determinations in Antidumping Duty Investigations

AGENCY: Import Administration, International Trade Administration, Department of Commerce.

ACTION: Notice of postponement of preliminary determinations in antidumping duty investigations.

SUMMARY: The Department of Commerce is postponing the preliminary determinations in the antidumping duty investigations of wax and wax/resin thermal transfer ribbons from France, Japan and the Republic of Korea from November 6, 2003 until no later than December 16, 2003. These postponements are made pursuant to section 733(c)(1)(A) of the Tariff Act of 1930, as amended.

EFFECTIVE DATE: October 21, 2003

FOR FURTHER INFORMATION CONTACT: Mark Hoadley (France) at (202) 482-3148, Cheryl Werner (Japan) at (202) 482-3208, or Fred Baker (Republic of Korea) at (202) 482-2924, Import Administration, International Trade Administration, U.S. Department of Commerce, 14th Street and Constitution Avenue, N.W., Washington, D.C. 20230.

SUPPLEMENTARY INFORMATION:

Background

On June 27, 2003, the Department of Commerce (the Department) published a notice of initiation of these antidumping duty investigations covering the period from April 1, 2002 through March 31, 2003 (68 FR 38305). The notice of initiation stated that the Department would issue preliminary determinations no later than 140 days after the date of initiation. See 68 FR 38308. Presently, the preliminary determinations in these investigations are due on November 6, 2003.

Postponement of Preliminary Determinations

Pursuant to section 733(b)(1)(A) of the Act, the Department shall make a preliminary determination in an investigation of an antidumping duty order within 140 days after the date on which the Department initiates the investigation. The Act further provides, however, that the Department may extend the 140-day period to 190 days if the petitioner makes a timely request for an extension. On October 3, 2003, the petitioner made timely requests pursuant to 19 CFR 351.205(e) for 40-day postponements, pursuant to section 733(c)(1)(A) of the Act, of the preliminary determinations in these investigations. Petitioner stated that postponements of the preliminary determinations are necessary due to the complexity of the issues involved in these cases, such as model matching/product characteristics, and also the timing of the respondents' submissions and supplemental questionnaire responses.

Under section 733(c)(1)(A) of the Act, if the petitioner makes a timely request for an extension of the period within which the preliminary determination must be made under subsection (b)(1), then the Department may postpone making the preliminary determination under subsection (b)(1) until not later than the 190th day after the date on which the administering authority initiates an investigation. Therefore, in accordance with petitioner's requests for postponements, the Department is postponing the preliminary determinations in these investigations for 40 days for the reasons stated in petitioner's requests. These preliminary determinations will now be due no later than December 16, 2003.

This notice is issued and published pursuant to section 733(c)(2) of the Act and 19 CFR 351.205(f).

Dated: October 14, 2003.
James J. Jochum,
Assistant Secretary for Import Administration.

[FR Doc. 03-26533 Filed 10-20-03; 8:45 am]

BILLING CODE 3510-DS-S